DEPARTMENT OF COMMERCE

National Oceanic and Atmospheric Administration

50 CFR Part 648

[Docket No.: 240314-0080; RTID 0648-XE110]

Fisheries of the Northeastern United States; Atlantic Sea Scallop Fishery; Closure of the Area I, Area II, and New York Bight Scallop Access Areas to General Category Individual Fishing Quota Scallop Vessels

AGENCY: National Marine Fisheries Service (NMFS), National Oceanic and Atmospheric Administration (NOAA), Commerce.

ACTION: Temporary rule; closure.

SUMMARY: NMFS announces that the Area I, Area II, and New York Bight Scallop Access Areas are closed to Limited Access General Category Individual Fishing Quota scallop vessels for the remainder of the 2024 fishing year. Regulations require this action once it is projected that 100 percent of trips allocated to the Limited Access General Category Individual Fishing Quota scallop vessels for the Area I, Area II, and New York Bight Scallop Access Areas will be taken. This action is intended to prevent the number of trips in the Area I, Area II, and New York Bight Scallop Access Areas from exceeding what is allowed under the Atlantic Sea Scallop Fishery Management Plan.

DATES: Effective 0001 hr local time, July 13, 2024, through March 31, 2025.

FOR FURTHER INFORMATION CONTACT: Travis Ford, Fishery Policy Analyst, (978) 281-9233.

SUPPLEMENTARY INFORMATION: Regulations governing fishing activity in the Sea Scallop Access Areas can be found in 50 CFR 648.59 and 648.60. These regulations authorize vessels issued a valid Limited Access General Category (LAGC) Individual Fishing Quota (IFQ) scallop permit to fish in the Area I, Area II, and New York Bight Scallop Access Areas under specific conditions, including a total of 856 trips, combined, that may be taken during the 2024 fishing year. Section 648.59(g)(3)(iii) requires NMFS to close an Access Area to LAGC IFQ permitted vessels for the remainder of the fishing year once it determines that the allocated number of trips for the fishing year are projected to be taken.

NMFS is required to monitor LAGC IFQ quota at a trip basis. The best scientific information available shows that July 13, 2024, is the appropriate date to close the areas given the current trip count, and likely mathematical extrapolations of trip counts until the closure date. We have taken into account that upon announcement of this closure, vessels are able to declare into the fishery before the closure date. LAGC IFQ scallop vessels provided trip declarations for fishing in the Area I, Area II, and New York Bight Scallop Access Areas to NMFS through the Vessel Monitoring System. NMFS performed a projection analysis using fishing effort data and determined that 856 trips would likely be taken by July 13, 2024.

Therefore, in accordance with § 648.59(g)(3)(iii), NMFS is closing the Area I, Area II, and New York Bight Scallop Access Areas to all LAGC IFQ scallop vessels as of July 13, 2024. No vessel issued an LAGC IFQ permit may fish for, possess, or land scallops in or from the Area I, Area II, or New York Bight Scallop Access Areas after 0001 hr local time, July 13, 2024. Any LAGC IFQ vessel that has declared into the Area I, Area II, or New York Bight Access Areas scallop fishery, complies with all trip notification and observer requirements, and crossed the Vessel Monitoring System demarcation line on the way to the area before 0001 hr, July 13, 2024, may complete its trip without being subject to this closure. This closure is in effect for the remainder of the 2024 scallop fishing year, through March 31, 2025.

Classification

NMFS issues this action pursuant to section 305(d) of the Magnuson-Stevens Fishery Conservation and Management Act. This action is required by 50 CFR part 648, which was issued pursuant to section 304(b), and is exempt from review under Executive Order 12866.

Pursuant to 5 U.S.C. 553(b)(B), there is good cause to waive prior notice and an opportunity for public comment on this action, as notice and comment would be impracticable and contrary to the public interest. The Area I, Area II, and New York Bight Scallop Access Areas opened for the 2024 fishing year on April 1, 2024. This closure is not discretionary under § 648.59(g)(3)(iii); NMFS must close the areas once when it determines the trip allocation will be reached. This closure ensures that LAGC IFQ scallop vessels do not take more than their allocated number of trips in the area. The projected date on which the LAGC IFQ fleet will have taken all of its allocated trips in an Access Area becomes apparent only as trips into the area(s) occur on a real-time basis and as activity trends begin to appear. Current trip counts are regularly posted to the monitoring website (https://www.greateratlantic.fisheries.noaa.gov/ro/fso/reports/ScallopProgram/CURRENT_REPORTS/LAGC_AA_TRIPS.html), giving regulated entities near-real time access to the status of impending closures. Nevertheless, NMFS can only make an accurate projection of a specific closure date very close in time to when the fleet has taken all of its allocated trips. If NMFS solicited public comment on this mandatory closure action then the LAGC IFQ scallop vessels would exceed their allocated number of trips in the Area I, Area II, and New York Bight Scallop Access Areas. Excessive trips and harvest from the Area I, Area II, and New York Bight Scallop Access Areas would result in excessive fishing effort in the area, where precise effort controls are critical, thereby undermining conservation objectives of the Atlantic Sea Scallop Fishery Management Plan and requiring more restrictive future management measures to prevent overfishing. Accordingly, delaying this action to provide prior notice and a comment period would harm scallop resources and the scallop fishing industry. The public had prior notice and full opportunity to comment on this closure process in Amendment 11 to the Atlantic Sea Scallop Fishery Management Plan (FMP) (73 FR 20090; April 14, 2008). The public also had prior notice and full opportunity to comment on the action to set specifications for the 2024 fishing year in Framework Adjustment 38 to the Scallop FMP (89 FR 20341; March 22, 2024). Regulated parties and stakeholders, were given a meaningful opportunity to comment on the regulatory scheme, and they are on notice to anticipate this specific closure action. For these reasons, NMFS has good cause to waive notice and comment for this action, which flows from and was specifically required by regulations that underwent notice and comment rulemaking. For these same reasons, NMFS further finds, under 5 U.S.C. 553(d)(3), good cause to waive the 30-day delayed effectiveness period.

Authority: 16 U.S.C. 1801 et seq.

Dated: July 11, 2024.
Lindsay Fullenkamp,
Acting Director, Office of Sustainable Fisheries, National Marine Fisheries Service.

[FR Doc. 2024-15587 Filed 7-12-24; 8:45 am]

BILLING CODE 3510-22-P